DEPARTMENT OF ENERGY

Notice of Request for Information: Challenges and Opportunities for the American Solar Industry

AGENCY: Solar Technologies Office, Office of Energy Efficiency and Renewable Energy, Department of Energy.

ACTION: Request for information.

SUMMARY: The U.S. Department of Energy Solar Energy Technologies Office (SETO) seeks information to help inform its research priorities, as part of its annual planning process. The purpose of this Request for Information (RFI) is to solicit feedback from industry, academia, research laboratories, government agencies, and other stakeholders to identify areas of interest related to challenges and opportunities for the American solar industry that are appropriate for federal government funding. This is solely a request for information and not a Funding Opportunity Announcement (FOA).

DATES: Responses to the RFI must be received no later than January 7, 2019.

ADDRESSES: Responses to this RFI must be submitted electronically to the email addresses provided in each of the topic sections as described in the RFI DE-FOA-0002055 available at: https://eere-exchange.energy.gov/FileContent.aspx?FileID=b79b612c-f2f9-49ea-846e-e74d2e6602d0. Responses must be provided as attachments to an email. It is recommended that attachments with file sizes exceeding 25MB be compressed (i.e., zipped) to ensure message delivery. Responses must be provided as a Microsoft Word (.docx) attachment to the email, and in 12 point font with 1 inch margins. Only electronic responses will be accepted.

Please identify answers by responding to a specific question or topic if applicable. Respondents may answer as many or as few questions as desired at their discretion.

EERE will not respond to individual submissions or publicly publish a compendium of responses. A response to this RFI will not be viewed as a binding commitment to develop or pursue the project or ideas discussed.

Respondents are requested to provide the following information at the start of their response to this RFI:

• Company/institution name;

• Company/institution contact;

• Contact's address, phone number, and email address.

FOR FURTHER INFORMATION CONTACT: Andrew Graves (202) 586-1071, Andrew.Graves@ee.doe.gov. Further instructions can be found in the RFI DE-FOA-0002055 document posted on EERE Exchange.

SUPPLEMENTARY INFORMATION: DOE posted on its website a RFI to solicit feedback from industry (including but not limited to research organizations, manufacturing organizations, catalyst manufacturers, and catalyst research consortia), academia, research laboratories, government agencies, and other solar stakeholders. The RFI DE-FOA-0002055 is available at: https://eere-exchange.energy.gov/FileContent.aspx?FileID=b79b612c-f2f9-49ea-846e-e74d2e6602d0.

Confidential Business Information

Because information received in response to this RFI may be used to structure future programs, funding and/or otherwise be made available to the public, respondents are strongly advised to not include any information in their responses that might be considered business sensitive, proprietary, or otherwise confidential. If, however, a respondent chooses to submit business sensitive, proprietary, or otherwise confidential information, it must be clearly and conspicuously marked as such in the response as detailed in the RFI at: https://eere-exchange.energy.gov/FileContent.aspx?FileID=b79b612c-f2f9-49ea-846e-e74d2e6602d0. Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC on December 10, 2018.
Charles Gay,
Director, Solar Energy Technologies Office.

[FR Doc. 2018-27451 Filed 12-18-18; 8:45 am]

BILLING CODE 6450-01-P